DEPARTMENT OF TRANSPORTATION

Pipeline and Hazardous Materials Safety Administration

49 CFR Part 191, 192

[Docket No. PHMSA-RSPA-2004-19854, Amdt. Nos. 191-22; Amdt. 192-116]

RIN 2137-AE60

Pipeline Safety: Mechanical Fitting Failure Reporting Requirements

AGENCY: Pipeline and Hazardous Materials Safety Administration (PHMSA), DOT.

ACTION: Final rule.

SUMMARY: This final rule is an amendment to PHMSA's regulations involving DIMP. This final rule revises the pipeline safety regulations to clarify the types of pipeline fittings involved in the compression coupling failure information collection; changes the term “compression coupling” to “mechanical fitting,” aligns a threat category with the annual report; and clarifies the Excess Flow Valve (EFV) metric to be reported by operators of gas systems. This rule also announces the OMB approval of the revised Distribution Annual Report and a new Mechanical Fitting Failure Report. Finally, this rulemaking clarifies the key dates for the collection and submission of the new Mechanical Fitting Failure Report.

DATES: This final rule takes effect April 4, 2011.

FOR FURTHER INFORMATION CONTACT: Mike Israni by phone at 202-366-4571 or by e-mail at Mike.Israni@dot.gov.

SUPPLEMENTARY INFORMATION:

I. Background

The DIMP Notice of Proposed Rulemaking (NPRM) published on June 25, 2008, (73 FR 36015, 36033), included a proposed provision for operators to report “each material failure of plastic pipe (including fittings, couplings, valves and joints).” In the DIMP final rule published on December 4, 2009, (74 FR 63906) PHMSA deleted the proposed requirement to report plastic pipe failures but retained the requirement to report failures of couplings used in plastic pipe and proposed extending the reporting requirement to include failures of couplings used in metal pipe. The final rule also required operators to collect compression coupling failure information beginning January 1, 2010, and report the failures annually on the Annual Report Form by March 15, 2011. PHMSA used the DIMP final rule to open up a 30-day comment period to invite public comment on the proposal to extend the reporting requirement to include the failure of couplings used in metal pipe. Comments were due by January 4, 2010. On December 31, 2009, (74 FR 69286) PHMSA extended the comment period to February 4, 2010, as requested by the American Gas Association. As a result of the comments received, PHMSA decided to revise the provisions relative to compression couplings as detailed in the comment summary below.

PHMSA also used the DIMP final rule to solicit comments on the revised Gas Distribution Annual Report. The revisions to the report were primarily made to incorporate the performance measures for the Gas Distribution Integrity Management Program. To comply with the PRA requirements, PHMSA issued a 60-day comment period with comments due by February 4, 2010, to allow for comments on the proposed revisions. Once the comment period passed, PHMSA reviewed the comments and made adjustments to the Gas Distribution Annual Report. To gather further input on the proposed revisions, PHMSA published another Federal Register notice on June 28, 2010, (75 FR 36615) with comments due by July 28, 2010.

PHMSA is issuing this rule to address the comments received on the notices detailed above and modify the pipeline safety regulations. In response to comments and as discussed below in more detail, PHMSA is changing the term “Compression Coupling” to “Mechanical Fitting” and providing a definition for “Mechanical Fitting.” PHMSA is also using this rule to announce the revisions to the Gas Distribution Annual Report Form (PHMSA F-7100.1-1). The revisions include moving the collection of mechanical fitting failure information to the new Gas Distribution Mechanical Fitting Failure Form (PHMSA F-7100.1-2).

The comments related to the proposed coupling reporting requirements, the reporting of installed excess flow valves, and the proposed revisions to the Distribution Annual Report Form are summarized in the next section. The comments and PHMSA's responses regarding the Gas Distribution Annual Report and a new Mechanical Fitting Failure Report are discussed in the Paperwork Reduction Act section.

II. Summary of Comments

In response to the request for comments in the DIMP final rule, PHMSA received twenty-three letters commenting on the proposals regarding compression coupling reporting requirements, the reporting of EFVs installed, and the revisions to the Distribution Annual Report Form. The commenters included 13 pipeline operators, two trade associations representing pipeline operators, the association representing State pipeline safety regulators, one State pipeline regulatory agency, one manufacturer, and one industry consultant. A summary of comments along with PHMSA's responses is provided below.

The majority of the comments recommended that PHMSA define key terms, revise the date to collect and report this information, and modify the Distribution Annual Report Form and instructions. They also requested consistency in the terminology used in § 192.1009, the Annual Report Form and instructions, and the Incident Report Form and instructions.

The comments addressed in this notice are detailed below:

Comment Topic 1: Define Key Term: Compression Coupling

Several commenters were not clear as to which pipeline fittings the term “compression coupling” encompassed. The comments stated that “compression coupling” implies a variety of mechanical joining methods. There was general consensus that the term “mechanical fittings” encompasses fittings such as compression, stab, nut follower, and bolted. In general, commenters stated that the term “mechanical fitting” is used in industry standards, and the meaning is broadly accepted. Some commenters proposed that PHMSA limit the collection of data by various criteria, such as compression-type mechanical fittings, plastic fittings, compression couplings, and fittings currently referenced in advisory bulletins. Commenters pointed out that there are differences between various types of compression fittings and to effectively address and mitigate the risks, the data collection needs to distinguish one type of compression fitting from another.

PHMSA Response: PHMSA recognizes that operators need clarification as to which fitting failures they need to report. Therefore, PHMSA has changed the term “compression coupling failure” to “mechanical fitting failure” and has included a definition for Mechanical Fitting in § 192.1001.

Comment Topic 2: Reportable Mechanical Fitting Failures

Commenters were also unclear if PHMSA intended for all mechanical fitting failures to be reported, regardless of the failure cause, or only those that were caused by material failures of the fitting. They were concerned that the lack of a standard definition of a reportable failure could result in inaccurate trending analysis. Commenters provided various opinions as to which hazardous mechanical fitting failure causes should be included in the data collection. One commenter stated that a hazardous leak caused by a compression coupling pulling out as the result of third party damage should not be considered a compression coupling failure since the failure is not indicative of the integrity and performance of a coupling. The commenter further stated that if a coupling fails as the result of another action, the operator should not be required to report the failure. On the other hand, another commenter stated that if a coupling leaks, it is a failure regardless of what failed, how it failed, or whether it failed in the body, the seal, or the pipe. Another operator indicated that the preamble in the final rule was clear that only hazardous leaks that were the result of “material failure” should be reported. One commenter noted that instructions for the annual report state that a material defect of a fitting exceeding the reasonable service life is not to be listed as a “Material or Weld” cause but as “Other.” The commenters were uncertain if PHMSA would require fittings exceeding their reasonable service life to be reported as a mechanical fitting failure. Finally, another commenter questioned if a crack that propagates from the pipe into a compression coupling causing it to fail should be reported. Commenters requested that PHMSA provide examples of failures that must be reported.

PHMSA Response: The objective of the data collection is to identify mechanical fittings that, based on historical data, are susceptible to failure. PHMSA intends for operators to report all types and all sizes of mechanical fitting (stab, nut follower, bolt, or other compression type) failures that result in a hazardous leak. The reporting requirements apply to failures in the bodies of mechanical fittings or failures in the joints between the fittings and pipe. PHMSA recognizes that mechanical fitting failures can be the primary cause of a leak or that they may leak as the result of another cause such as excavation damage. Operators are to report mechanical fitting failures as the result of any cause, including, but not limited to, excavation damage, exceeding their service life, poor installation practice, and incorrect application. Fittings are to be included regardless of the material they join. Operators must report mechanical fittings that join steel-to-steel, steel-to-plastic, and plastic-to-plastic. Specific examples of mechanical fittings to be reported include, but are not limited to, transition fittings, risers, compression couplings, stab fittings, mechanical saddles, mechanical tapping tees, service tees, risers, sleeves, ells, wyes, and straight tees.

Comment Topic 3: Reportable Aboveground Leaks

Commenters sought criteria for defining reportable aboveground leaks. One commenter stated that operators should classify aboveground leaks differently from underground leaks because the vast majority of these fugitive emissions:

1. Dissipate harmlessly into the atmosphere;

2. Are located on meter sets, downstream of the service regulator, and therefore involve low operating pressures; and

3. Are located at threaded joints that may release small quantities (parts per million) that can only be detected by sophisticated electronic leakage detection instruments.

Meter sets commonly contain aboveground couplings where small leaks are eliminated by tightening. A widely accepted industry guidance document, Gas Pipeline Technical Committee (GPTC) Guide, does not currently provide gas leakage investigation and classification guidelines for aboveground leaks. The commenter also proposed a definition that would establish criteria for a “Hazardous Aboveground Leak” on Outside Piping and on Inside Piping. The commenter further proposed a definition for “Reportable Aboveground Leak” based on the “Hazardous Aboveground Leak” criteria. Alternatively, one commenter stated that the criteria for reporting leaks should be expanded to include leaks that can be cured by re-tightening, since the leak could have been avoided if the fitting had been sufficiently tightened at its initial installation. By defining these releases as “not leaks,” the commenter asserted that important data may be lost, data that could possibly identify an area or company whose compression fittings could pose a threat.

PHMSA Response: PHMSA recognizes that operators seek additional criteria to define which leaks on aboveground pipe should be reported. Operators have previously reported the total number of leaks eliminated/repaired during the year on the Annual Report Form. PHMSA has not made changes to the criteria for collecting data for this field. Therefore, all aboveground leaks should continue to be reported as detailed in the instructions for the Annual Report. The reporting of hazardous leaks repaired or eliminated is a new performance measure. Operators, PHMSA, and State regulatory agencies may decide to refine the criteria for reporting the measure when there is data to evaluate. Hazardous leaks, whether they occur aboveground or below ground, need to be reported. A hazardous leak meets both of the following definitions regardless of whether the leak occurs aboveground or below ground:

A “leak” is defined in the Annual Report instructions as an unintentional escape of gas from the pipeline. A non-hazardous release that can be eliminated by lubrication, adjustment, or tightening, is not a leak.

“Hazardous Leak” is defined in § 192.1001 as a leak that represents an existing or probable hazard to persons or property and requires immediate repair or continuous action until the conditions are no longer hazardous.

Comment Topic 4: EFV Data

One commenter requested that PHMSA use the total number of EFVs installed in an operator's system at the end of the year as the metric for reportable EFV data, not the number of EFVs installed during the year. This change would make the EFV metric consistent with the system data reported in PART B—System Description on the Annual Report Form and with the directive contained within Title 49 U.S.C. 60109(e)(3)(B). The commenter suggested that the information collected in Part E of the Annual Report Form be designated as, “The Number of EFVs in System at End of Year on single-family residences.”

PHMSA Response: The requirement to report EFV metrics was mandated in the Pipeline Inspection, Protection, Enforcement, and Safety Act of 2006, codified at 49 U.S.C. § 60109(e)(3). The statute requires operators to annually report to PHMSA the number of EFVs installed on their systems to single-family residence service lines. PHMSA will continue to collect information regarding the number of EFVs installed on single-family residential services during the year. In addition, PHMSA will collect estimates on the total number of EFVs in the system at the end of the year. Further discussion on EFVs is found in the Paperwork Reduction Act section under “Gas Distribution Annual Report.”

Comment Topic 5: Delay Mechanical Fitting Failure Information Collection and Reporting Date

Since the current date to start collecting data precedes the effective date of this final rule, commenters proposed that PHMSA delay the start date for collecting mechanical fitting failure data until calendar year 2011, and delay the due date for submitting this information until March 15, 2012. Commenters stated that operators need time to make changes to processes and procedures for capturing data, programming to data collection systems (6-12 months), changes to data collection forms (paper or electronic), and train personnel on new requirements. According to the commenters, these changes cannot occur until final requirements are released. Operators requested that PHMSA incorporate all planned changes to the annual report before operators are required to change their data collection process.

PHMSA Response: Based on the modifications to § 192.1009 for reporting mechanical fitting failures and the creation of the new Mechanical Fitting Failure Report, PHMSA is requiring that reporting of Mechanical Fitting Failures begin with calendar year 2011. PHMSA will allow for operators to submit reports throughout the calendar year with all reports due March 15 of the following year.

However, the new integrity management performance reporting criteria for the Gas Distribution Annual Report has been available since the DIMP final rule was published December 4, 2009. Therefore, PHMSA will not delay the reporting of the revised Gas Distribution Annual Report. Calendar year 2010 data will be required to be reported on the revised 2011 Gas Distribution Annual Report.

III. Final Rule

This final rule revises 49 CFR parts 191 and 192 to amend certain integrity management requirements applicable to distribution pipelines. This final rule addresses comments regarding the data collection scope for “mechanical fittings failures” and the implementation date for data collection and submission.

Section-by-Section Analysis

Section 191.12 Distribution Systems: Mechanical Fitting Failure Report

This section has been added to incorporate the reporting requirements for the new Mechanical Fitting Failure Report into the pipeline safety regulations. In addition, the submission requirements have been moved to this section.

Section 192.383 EFV Installation

This section is revised to specify that the reporting metrics for EFVs are detailed in the Gas Distribution Annual Report.

Section 192.1007 What are the required elements of an integrity management plan?

Paragraph (b) of this section is revised to align threats to the integrity of the pipeline with the “cause of leak” data fields on the Gas Distribution Annual Report Form. The phrase “material, weld or joint failure (including compression coupling)” is replaced with the phrase “Material or Welds.”

Section 192.1009 What must an operator report when a mechanical fitting fails?

This section is being revised to change the term “compression coupling” to “mechanical fitting” and remove the listing of information to be collected and submitted. This section is also revised to refer operators to the new Mechanical Fitting Failure reporting requirements in § 191.12.

IV. Regulatory Analyses and Notices

Statutory/Legal Authority for This Rulemaking

This final rule is published under the authority of the Federal Pipeline Safety Law (49 U.S.C. 60101 et seq.). Section 60102 authorizes the Secretary of Transportation to issue regulations governing design, installation, inspection, emergency plans and procedures, testing, construction, extension, operation, replacement, and maintenance of pipeline facilities. This rulemaking amends the recently published DIMP final rule to finalize the provisions for reporting mechanical fittings failures.

A. Privacy Act Statement

Anyone may search the electronic form of comments received in response to any of our dockets by the name of the individual submitting the comment (or signing the comment if submitted for an association, business, labor union, etc.). You may review DOT's complete Privacy Act Statement in the Federal Register published on April 11, 2000 (65 FR 19477) or you may visit http://docketsinfo.dot.gov/.

B. Executive Order 13132

PHMSA has analyzed this final rule under the principles and criteria in Executive Order 13132 (“Federalism”). The final rule does not have a substantial direct effect on the States, the relationship between the national government and the States, or the distribution of power and responsibilities among the various levels of government. The final rule does not impose substantial direct compliance costs on State and local governments. This final regulation does not preempt State law for intrastate pipelines. Therefore, the consultation and funding requirements of Executive Order 13132 do not apply.

C. Executive Order 12866—Regulatory Planning and Review and DOT Regulatory Policies and Procedures

The final rule is not a significant regulatory action under section 3(f) of Executive Order 12866 (58 FR 51735) and, therefore, was not subject to review by the Office of Management and Budget. This rule is not significant under the Regulatory Policies and Procedures of the Department of Transportation (44 FR 11034).

D. Executive Order 13175

PHMSA analyzed this final rule according to Executive Order 13175 (“Consultation and Coordination with Indian Tribal Governments”). Because this final rule does not significantly or uniquely affect the communities of the Indian Tribal governments or impose substantial direct compliance costs, the funding and consultation requirements of Executive Order 13175 do not apply.

E. Regulatory Flexibility Act

Under the Regulatory Flexibility Act (5 U.S.C. 601 et seq.), PHMSA must consider whether rulemaking actions would have a significant economic impact on a substantial number of small entities. In the DIMP final rule, PHMSA detailed the small business impact on the small business community and determined that 9,090 small operators would be impacted by the rule. Further, PHMSA estimated that the costs associated with the DIMP final rule would result in a significant adverse economic impact for some of the smallest affected entities. This final rule does not broaden the scope of the DIMP final rule. Therefore, PHMSA believes that the provisions contained in this final rule will not have a significant impact on small entities. Based on the facts available about the expected impact of this rulemaking, I certify, under Section 605 of the Regulatory Flexibility Act (5 U.S.C. 605) that this final rule will not have a significant economic impact on a substantial number of small entities.

F. PRA

In response to the comments received from the 60-day PRA notice contained in the DIMP final rule, PHMSA made a number of revisions to the Gas Distribution Annual Report. To maintain transparency and gather further input, PHMSA published a 30-day notice (June 28, 2010; 75 FR 36615) to seek additional comments on the revised Gas Distribution Annual Report. PHMSA received eight comments which have been reviewed and responded to as follows:

Section of form | Comment | PHMSA response/resulting action
General | Standardize information collection terminology used for both Incident and Annual Report Forms | PR1. This will be addressed during the information collection renewal process that occurs every three years.
Part A. Operator Information Question 6. (Commodity Transported) | Instructions are unclear as to how operators with multiple gases should respond | PR2. This question has been removed.
Part C. Total Leaks and Hazardous Leaks Eliminated/Repaired During Year | There is no specific entry for collecting mechanical fitting leaks eliminated/repaired during the year in Part C. Since failure data on such fittings is collected in Part F, it would make sense to collect data specifically on them in Part C | PR3. PHMSA is moving Part F to a separate form and therefore, will not make the suggested revision.
| Modify form instructions for Part C to have all mechanical fitting failures included in “Material and Welds” as stated in § 192.1007(b). Remove from “Equipment” | PR4. PHMSA is moving Part F to a separate form and therefore, will not make the suggested revision.
| For aboveground leaks, clarify the instructions to state that operators should only report hazardous aboveground leaks (the preponderance of aboveground leaks are trivial and represent no threat to the public) | PR5. PHMSA disagrees. PHMSA maintains that, based on the intent of recent guidance, all aboveground leaks should be reported unless the leak is a non-hazardous leak that can be eliminated by lubrication, adjustment, or tightening.
Part E. EFV Data | Operators should simply report all EFVs installed on the distribution system, not just on Single Family Residences. (No records to distinguish commercial and residential) | PR6. As detailed in DIMP, PHMSA will require each operator, on an annual basis, to report the number of EFVs installed during the year on service lines serving single-family residences. PHMSA has included another block to allow for companies to estimate the total number of EFVs installed in their system.
| The instructions should expressly state that operators can estimate the number of EFVs in service | PR7. PHMSA will allow for estimates on the total number of EFVs in the system.
| The option regarding reporting single-family or single-family branch services is confusing and holds no value. (Should be removed) | PR8. PHMSA agrees and has removed this provision.
| This is a significant change from what was originally proposed, which was to report the number of EFVs that the operator installed during the year, which was easy to capture. Plus no discussion as to why this change was made | PR9. PHMSA is requiring primarily the number of EFVs installed per § 192.383 for the year. PHMSA is also requiring operators to estimate the total number of EFVs installed in their system.
| It is not a problem identifying EFVs added to system for the year (w/no distinction to type) | PR10. See PR7 and PR9.
| Will successive annual reports require a cumulative total number of EFVs installed or only the number installed for the calendar year reporting period? If cumulative, from what date forward? | PR11. See above. PHMSA is requesting CY 2010 data based on installation pursuant to § 192.383(b). PHMSA is also requesting operators to provide an estimated total number of EFVs installed in a system.
Part F. Mechanical Fitting Failure Data (This information will be placed on the new mechanical fitting failure form) | Form a stakeholders group to review the results and decide if the information request should sunset after the three- year OMB approval. Information in Part F is comprehensive and duplicative to other data collection efforts | PR12. PHMSA will first seek to use the notice and comment process. However, PHMSA will continue to consider such actions for future revisions.
| A major problem is the enormous expansion of the data. Mechanical fittings encompass an almost infinite universe of fittings. PHMSA's Federal Register notice provides no explanation or justification for the expansion of the data request. Expanding the reporting scope increases reporting requirements by several orders of magnitude. There is no information in this OMB approval request regarding the paperwork burden for the great expansion in the data request. (Replace “mechanical fittings” with “compression couplings”) | PR13. PHMSA is not expanding the reporting scope. Based on DIMP we are only looking for failures that result in a hazardous leak on “compression style” fittings ( e.g. stab, nut follower, bolted).
| The “other” category following stab, nut follower, and bolted couplings should be deleted since they are the only type of compression type fittings | PR14. PHMSA wants to confirm that there are no other types of compression type coupling in use. Therefore, PHMSA is retaining the “other” category with a slight revision to change “other” to “Other Compression Type Fitting.”
| Delete the line beginning with “Was the Failure a Result of” and the associated subcategories | PR15. PHMSA has deleted the line beginning with “Was the Failure a Result of” and revised the associated subcategories.
| Delete “Pull Out” as a choice for “Location of Leak.” | PR16. PHMSA is keeping the “Pull Out” as a choice for “Location of the Leak” and revising “Location of Leak” to “How did the leak occur.”
| Rather than use the bullet outline throughout Part F, use a numbered outline format so that the subsections of Part F can be clearly referenced if questions arise | PR17. PHMSA created a new form for Part F with a numbered outline format.
| The form should allow “Unavailable” to be entered under “Year Installed,” “Year Manufactured,” and “If Year Unknown, Provide Decade Installed:” This option is provided for in the instructions for the bulleted items after this section | PR18. PHMSA revised the instructions to allow for “Unavailable.”
| Part F of the form would be reproduced for each separate event where failure of a compression fitting results in a hazardous leak. PHMSA should provide that the (electronic) form have an index or tracking number to identify separate events within the calendar year (such as 20XX-XXX). Such a mechanism is important, not only to distinguish between reports compiled during the year, but also in the case where information is later determined to require a supplemental report to be filed | PR19. In addition to separating out Part F onto its own form, PHMSA will create a unique identifier for each report.
| The section titled “Location of Leak” should be relabeled “Type of Failure” with the existing choices: “Leak Through Seal,” “Leak Through Body,” or “Pull Out.” | PR20. PHMSA revised the section title from “Location of Leak” to “How did the leak occur” to identify the visual evidence of the leak.
| The subsection “Was the Failure a Result of” should have a choice of “Unknown” or “Other” since the cause may never be known | PR21. PHMSA is deleting that subsection.
| Operators should be able to file Part F throughout the year | PR22. Operators will be able to file the new form for Mechanical Fitting failures throughout the year.
| Under “Location of Leak” replace “Pull Out” with “Leak at Separation of Pipe and Coupling.” (more appropriate and in line with other descriptions) | PR23. PHMSA has revised the Location of Leak section as detailed above.
| Annual report should only contain summary data | PR24. Part F is now on its own form.

The resulting revised Gas Distribution Annual Report (PHMSA F-7100.1-1) and new Mechanical Fitting Failure Report (PHMSA F-7100.1-2) have been approved by OMB under the information collection titled “Incident and Annual Reports for Gas Pipeline Operators” (OMB Control No. 2137-0522).

G. Executive Order 13211

This final rule is not a “significant energy action” under Executive Order 13211 (Actions Concerning Regulations That Significantly Affect Energy Supply, Distribution, or Use). It is not likely to have a significant adverse effect on supply, distribution, or energy use. Further, the Office of Information and Regulatory Affairs has not designated this rule as a significant energy action.

H. Unfunded Mandates

This final rule does not impose unfunded mandates under the Unfunded Mandates Reform Act of 1995. It does not result in costs of $100 million (adjusted for inflation currently estimated to be $132 million) or more in any one year to either State, local, or Tribal governments, in the aggregate, or to the private sector, and is the least burdensome alternative that achieves the objective of the final rule.

I. National Environmental Policy Act

PHMSA analyzed this final rule in accordance with section 102(2)(c) of the National Environmental Policy Act (42 U.S.C. 4332), the Council on Environmental Quality regulations (40 CFR 1500-1508), and DOT Order 5610.1C, and has determined that this action will not significantly affect the quality of the human environment. PHMSA conducted an Environmental Assessment on the DIMP NPRM and did not receive any comment on the preliminary analysis. In the final rule, we concluded that the rule would not have any significant impacts on the quality of the human environment. The amendments we are making to the final rule do not change that determination. The Environmental Assessment is available for review in the Docket.

J. Regulation Identifier Number

A regulation identifier number (RIN) is assigned to each regulatory action listed in the Unified Agenda of Federal Regulations. The Regulatory Information Service Center publishes the Unified Agenda in April and October of each year. The RIN number contained in the heading of this document can be used to cross-reference this action with the Unified Agenda.

List of Subjects

49 CFR Part 191

Pipeline safety, Incident and Annual Reporting and recordkeeping requirements.

49 CFR Part 192

Integrity management, Pipeline safety, Reporting and recordkeeping requirements.

In consideration of the foregoing, PHMSA is amending part 191 and part 192 of Title 49 of the Code of Federal Regulations as follows:

PART 191—TRANSPORTATION OF NATURAL AND OTHER GAS BY PIPELINE; ANNUAL REPORTS, INCIDENT REPORTS, AND SAFETY-RELATED CONDITION REPORTS

1. The authority citation for part 191 continues to read as follows:

Authority: 49 U.S.C. 5121, 60102, 60103, 60104, 60108, 60117, 60118, and 60124; and 49 CFR 1.53.

2. A new § 191.12 is added to read as follows:

§ 191.12 Distribution Systems: Mechanical Fitting Failure Reports

Each mechanical fitting failure, as required by § 192.1009, must be submitted on a Mechanical Fitting Failure Report Form PHMSA F-7100.1-2. An operator must submit a mechanical fitting failure report for each mechanical fitting failure that occurs within a calendar year not later than March 15 of the following year (for example, all mechanical failure reports for calendar year 2011 must be submitted no later than March 15, 2012). Alternatively, an operator may elect to submit its reports throughout the year. In addition, an operator must also report this information to the State pipeline safety authority if a State has obtained regulatory authority over the operator's pipeline.

PART 192—TRANSPORTATION OF NATURAL AND OTHER GAS BY PIPELINE: MINIMUM FEDERAL SAFETY STANDARDS

3. The authority citation for part 192 continues to read as follows:

Authority: 49 U.S.C. 5103, 60102, 60104, 60108, 60109, 60110, 60113, 60116, 60118, and 60137; and 49 CFR 1.53.

4. In § 192.383, paragraph (c) is revised to read as follows:

§ 192.383 Excess flow valve installation.

* * * * *

(c) Reporting. Each operator must report the EFV measures detailed in the annual report required by § 191.11.

5. In § 192.1001, a definition for “Mechanical fitting” is added in appropriate alphabetical order as follows:

§ 192.1001 What definitions apply to this subpart?

* * * * *

Mechanical fitting means a mechanical device used to connect sections of pipe. The term “Mechanical fitting” applies only to:

(1) Stab Type fittings;

(2) Nut Follower Type fittings;

(3) Bolted Type fittings; or

(4) Other Compression Type fittings.

* * * * *

6. In § 192.1007, in paragraph (b), the first sentence is revised to read as follows:

§ 192.1007 What are the required elements of an integrity management plan?

* * * * *

(b) Identify threats. The operator must consider the following categories of threats to each gas distribution pipeline: corrosion, natural forces, excavation damage, other outside force damage, material or welds, equipment failure, incorrect operations, and other concerns that could threaten the integrity of its pipeline. * * *

* * * * *

7. Section 192.1009 is revised to read as follows:

§ 192.1009 What must an operator report when a mechanical fitting fails?

(a) Except as provided in paragraph (b) of this section, each operator of a distribution pipeline system must submit a report on each mechanical fitting failure, excluding any failure that results only in a nonhazardous leak, on a Department of Transportation Form PHMSA F-7100.1-2. The report(s) must be submitted in accordance with § 191.12.

(b) The mechanical fitting failure reporting requirements in paragraph (a) of this section do not apply to the following:

(1) Master meter operators;

(2) Small LPG operator as defined in § 192.1001; or

(3) LNG facilities.

Issued in Washington, DC, on January 24, 2011.
Cynthia L. Quarterman,
Administrator.

[FR Doc. 2011-2081 Filed 1-31-11; 8:45 am]

BILLING CODE 4910-60-P